DEPARTMENT OF ENERGY

Proposed Agency Information Collection: Contracting

AGENCY: Bonneville Power Administration, Department of Energy.

ACTION: Notice of information collection; request for comments.

SUMMARY: The Department of Energy (DOE), Bonneville Power Administration (BPA), invites public comment on a collection of information that BPA is developing for submission to the Office of Management and Budget (OMB) pursuant to the Paperwork Reduction Act of 1995.

DATES: Comments regarding this proposed information collection must be received on or before January 7, 2020.

ADDRESSES: Written comments may be sent to Bonneville Power Administration, Attn: Laura McCarthy, CGI-7, PO Box 3621, Portland, OR 97208-3621, or by fax Attn: Laura McCarthy, CGI-7, at 503-230-4619, or by email at ljmccarthy@bpa.gov.

FOR FURTHER INFORMATION CONTACT: Requests for additional information or copies of the information collection instrument and instructions should be directed to Attn: Laura McCarthy, CGI-7, PO Box 3621, Portland, OR 97208-3621, or by fax Attn: Laura McCarthy, CGI-7 at 503-230-4619, or by email at ljmccarthy@bpa.gov.

SUPPLEMENTARY INFORMATION: Comments are invited on: Whether the proposed collection of information is necessary for the proper performance of the functions of the agency, including whether the information shall have practical utility; the accuracy of the agency's estimate of the burden of the proposed collection of information, including the validity of the methodology and assumptions used; ways to enhance the quality, utility, and clarity of the information to be collected; and ways to minimize the burden of the collection of information on respondents, including through the use of automated collection techniques or other forms of information technology. This information collection request contains:

(1) OMB No.: New; (2) Information Collection Request Title: Contracting; (3) Type of Request: Existing collections without OMB Control Number; (4) Purpose: This information collection is associated with BPA's management and oversight of contracting requirements in fulfillment of BPA vendor contracts. Non-employees, contractors, and the general public complete the following forms: BPA F 4220.04—Subcontracting Report for Individual Contracts; BPA F 4220.5—Amendment of Solicitation/Modification of Contract/Order; BPA F 4220.52—Solicitation, Offer, and Award for Construction; and BPA F 4220.55—Solicitation/Contract/Order for Services and/or Items; (5) Estimated Number of Respondents: 3,370; (6) Annual Estimated Number of Respondents; 3,370; (7) Annual Estimated Number of Burden Hours: 158; and (8) Annual Estimated Reporting and Recordkeeping Cost Burden: 0.

Statutory Authority: The Bonneville Project Act codified at 16 U.S.C. 832; the Federal Columbia River Transmission System Act of 1974; and the Pacific Northwest Electric Power Planning and Conservation Act.

Signed on the 2nd day of October, 2019.
Candice D. Palen,
Information Collection Clearance Manager.

[FR Doc. 2019-24428 Filed 11-7-19; 8:45 am]

BILLING CODE 6450-01-P